DEPARTMENT OF HOUSING AND URBAN DEVELOPMENT

[Docket No. FR 4896-N-01]

Public Housing Assessment System (PHAS); Physical Condition Inspection Proposed Changes to the Dictionary of Deficiency Definitions

AGENCY: Office of the Assistant Secretary for Public and Indian Housing, HUD.

ACTION: Notice.

SUMMARY: This notice provides information to public housing agencies (PHAs), multifamily owners and agents, and members of the public regarding proposed changes to the 47 definitions in the physical condition Dictionary of Deficiency Definitions that is an appendix to the PHAS notice on the physical condition scoring process. The 47 definitions proposed to be changed are those that have been identified as causing the greatest inconsistency among contract inspections. These proposed changes would affect the physical condition inspection process for both multifamily and public housing properties.

DATES: Comment Due Date: April 15, 2004.

ADDRESSES: Interested persons are invited to submit comments regarding this notice to the Regulations Division, Office of General Counsel, Room 10276, Department of Housing and Urban Development, 451 Seventh Street, SW., Washington, DC 20410-0500. Communications should refer to the above docket number and title. Facsimile (FAX) comments are not acceptable. A copy of each communication submitted will be available for public inspection and copying between 8 a.m. and 5 p.m. eastern time weekdays at the above address.

FOR FURTHER INFORMATION CONTACT: The Office of Public and Indian Housing, Real Estate Assessment Center (PIH-REAC), Attention: Wanda Funk, Department of Housing and Urban Development, 1280 Maryland Avenue, SW., Suite 800, Washington, DC 20024-2135; telephone the PIH-REAC Technical Assistance Center at (888) 245-4860 (this is a toll free number). Persons with hearing or speech impairments may access this number through TTY by calling the toll-free Federal Information Relay Service at (800) 877-8339. Additional information is available from the PIH-REAC Internet site at http://www.hud.gov/reac/.

SUPPLEMENTARY INFORMATION:

1. Background

This notice proposes changes to 47 definitions in the Dictionary of Deficiency Definitions that is an appendix to the PHAS Notice on the Physical Condition Scoring Process, as provided in HUD's regulations that govern the PHAS. (See 24 CFR part 902, and especially § 902.24). The 47 definitions proposed to be changed are those that have been identified as causing the greatest inconsistency among contract inspections. These proposed changes would effect the physical condition inspection process for both multifamily and public housing properties

The Conference Report 106-988 (Conference Report) accompanying HUD's Fiscal Year 2001 Appropriations Act (Pub. L. 106-377, approved October 27, 2000), directed the Department to, among other things, continue to assess the accuracy and effectiveness of the PHAS system, in particular the physical condition inspection protocol. HUD was also to perform a statistically valid test of PHAS, conduct a thorough analysis of the results, and have the methodology and results reviewed by an independent expert before taking any adverse action against a PHA based solely on its PHAS score. The Department retained the Louis Berger Group (the contractor) to conduct the review of the methodology and results of the statistically valid test.

The findings of the contractor's study concluded that the physical condition inspection protocol is repeatable and reliable. A report, entitled the “Review and Assessment of the REAC Study of the Physical Assessment Sub-System (PASS) Process”, which addressed the issues raised in the Conference Report was provided to HUD's Committee on Appropriations on March 1, 2001. The contractor issued a final report in June 2000. The contractor also identified 47 definitions in the Dictionary of Deficiency Definitions as causing the greatest inconsistency among inspections. As noted earlier, the Dictionary of Deficiency Definitions is included as an appendix to the PHAS Notice on the Physical Condition Scoring Process. The last version of this notice, which included the Dictionary of Deficiency Definitions, was published in the Federal Register on June 28, 2000 (65 FR 39988). The report recommended modifications and minor changes to the 47 definitions.

2. Informal Consultations Regarding the 47 Definitions

HUD held informal meetings with multifamily and public housing industry representatives, housing advocacy representatives and governmental representatives to seek their input regarding ways to revise and improve the 47 definitions identified by the contractor. After the contractor issued its final and supplemental report in June 2001, and a HUD review team evaluated the proposed definition changes during July and August 2001, HUD issued preliminary comments that either agreed with the changes, recommended modifications, or advised leaving certain definitions unchanged. HUD and the contractor then completed the first revision to the physical inspection software based on the input from the HUD review team.

From 2001 to 2002, HUD and the contractor met with representatives from the multifamily industry, the public housing industry, and HUD's own public housing staff to hold informal discussions on proposed changes to various definitions in the Dictionary of Deficiency Definitions. Informed by these discussions, HUD drafted this proposed revision to the 47 definitions.

The proposed revisions to the 47 definitions that resulted from these meetings are now being published for public comment for a 30-day period. The revisions are included as Appendix 1 to this notice, which lists the 47 definitions identified by the contractor showing the original definition and the proposed definition.

Dated: January 12, 2004.
Michael Liu,
Assistant Secretary for Public and Indian Housing.

BILLING CODE 4210-33-P

[FR Doc. 04-5828 Filed 3-15-04; 8:45 am]

BILLING CODE 4210-33-C